FEDERAL DEPOSIT INSURANCE CORPORATION

[OMB No. 3064-0061; -0125; and -0176]]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0061; -0125; and -0176).

DATES: Comments must be submitted on or before June 15, 2020.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collections of information:

1. Title: Summary of Deposits.

OMB Number: 3064-0061.

Affected Public: FDIC-insured depository institutions.

Burden Estimate:

Summary of Annual Burden
Information collection description | Type of burden | Obligation to respond | Estimated number of respondents | Estimated frequency of responses | Estimated time per response (hours) | Estimated annual burden (hours)
Summary of Deposits | Reporting | Mandatory | 4,299 | Annually | 3 | 12,897

Total Estimated Annual Burden: 12,897 hours.

General Description of Collection: The Summary of Deposits (SOD) is the annual survey of branch office deposits as of June 30 for all FDIC-insured institutions, including insured U.S. branches of foreign banks. All FDIC-insured institutions that operate a main office and one or more branch locations (including limited service drive-thru locations) as of June 30 each year are required to file the SOD Survey. Insured branches of foreign banks are also required to file. All data collected on the SOD submission are available to the public. The survey data provides a basis for measuring the competitive impact of bank mergers and has additional use in research on banking.

2. Title: Foreign Banking Investments by Insured State Nonmember Banks.

OMB Number: 3064-0125.

Affected Public: Insured state nonmember banks and state savings associations.

Burden Estimate:

Summary of Annual Burden
Information collection description | Type of burden | Obligation to respond | Estimated number of respondents | Estimated frequency of responses | Estimated time per response (hours) | Estimated annual burden (hours)
Notices or Applications to establish, move, or close a foreign branch (303.182) | Reporting | Mandatory | 1 | On Occasion | 2 | 2
Filings for authorization for foreign branch to engage in activities other than those permitted in 347.115 (303.121) | Reporting | Mandatory | 1 | On Occasion | 40 | 40
Merger transactions involving foreign organizations (303.185(b) referencing 303.62) | Reporting | Mandatory | 1 | On Occasion | 6 | 6
Filings to invest in foreign organizations, or to engage in certain activities through foreign organizations (303.183(b) and\or 303.121) | Reporting | Mandatory | 2 | On Occasion | 60 | 120
Notice of foreign divestiture of foreign organization (303.183)(d) | Reporting | Mandatory | 2 | On Occasion | 1 | 2
Document Policies and Procedures for Supervision of Foreign Activities of foreign activities (347.116) (Implementation) | Recordkeeping | Mandatory | 10 | On Occasion | 400 | 4,000

Total Estimated Annual Burden: 4,170 hours.

General Description of Collection: The Federal Deposit Insurance (FDI) Act requires state nonmember banks to obtain FDIC consent to establish or operate a foreign branch, or to acquire and hold, directly or indirectly, stock or other evidence of ownership in any foreign bank or other entity. The FDI Act also authorizes the FDIC to impose conditions for such consent and to issue regulations related thereto. This collection is a direct consequence of those statutory requirements.

3. Title: Reverse Mortgage Products.

OMB Number: 3064-0176.

Affected Public: Insured state nonmember banks and state savings associations making reverse mortgage.

Burden Estimate:

Summary of Annual Burden
Information collection description | Type of burden | Obligation to respond | Estimated number of respondents | Estimated frequency of responses | Estimated time per response (hours) | Estimated annual burden (hours)
Reverse Mortgage Products—Implementation | Third-Party Disclosure | Voluntary | 1 | 1 | 40 | 40
Reverse Mortgage Products—Ongoing | Third-Party Disclosure | Voluntary | 31 | 1 | 8 | 248

Total Estimated Annual Burden: 288 hours.

General Description of Collection: Respondents must prepare and provide certain disclosures to consumers (e.g., that insurance products and annuities are not FDIC-insured) and obtain consumer acknowledgments, at two different times: (1) Before the completion of the initial sale of an insurance product or annuity to a consumer; and (2) at the time of application for the extension of credit (if insurance products or annuities are sold, solicited, advertised, or offered in connection with an extension of credit).

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on April 8, 2020.
Robert E. Feldman,
Executive Secretary.

[FR Doc. 2020-07747 Filed 4-13-20; 8:45 am]

BILLING CODE 6714-01-P